DEPARTMENT OF TRANSPORTATION

National Highway Traffic Safety Administration

49 CFR Part 571

[Docket No. NHTSA-98-4662]

RIN 2127-AJ02

Federal Motor Vehicle Safety Standards, School Bus Body Joint Strength; Correction

AGENCY: National Highway Traffic Safety Administration (NHTSA), Department of Transportation.

ACTION: Correcting amendment.

SUMMARY: In the Federal Register of December 13, 2001, NHTSA published a document in response to petitions for reconsideration that amended Federal Motor Vehicle Safety Standard No. 221, School Bus Body Joint Strength. There was a typographical error in S6.1.2. This document corrects the error.

DATES: Effective on January 1, 2003.

FOR FURTHER INFORMATION CONTACT: Dorothy Nakama, Office of the Chief Counsel, at (202) 366-2992. Her FAX number is: (202) 366-3820. Her address is: National Highway Traffic Safety Administration, 400 Seventh Street, SW, Washington, DC 20590.

SUPPLEMENTARY INFORMATION: NHTSA published a document in the Federal Register of December 13, 2001, (66 FR 64358) (FR Doc. 01-34096) amending Federal Motor Vehicle Safety Standard No. 221, School bus body joint strength, 49 CFR 571.221. As published, 6.1.2 of the standard stated: “If a joint is less than 305 mm long, cut a test specimen with enough of the adjacent material to permit it to be held in the tension testing machine specified in S6.3.” This document corrects “305 mm” to read “203 mm.”

Need for correction—As published, the final rule contains an error which may prove to be misleading and needs to be clarified.

List of Subjects in 49 CFR Part 571

Motor vehicle safety, Reporting and recordkeeping requirements, Tires.

Accordingly, 49 CFR Part 571 is corrected by making the following correcting amendment:

PART 571—FEDERAL MOTOR VEHICLE SAFETY STANDARDS

1. The authority citation for Part 571 continues to read as follows:

Authority: 49 U.S.C. 322, 30111, 30115, 30117, and 30166; delegations of authority at 49 CFR 1.50.

2. Section 571.221 is corrected by revising S6.1.2 to read as follows:

§ 571.221 Standard No. 221, School Bus Body Joint Strength

* * * * *

S6.1.2 If a joint is less than 203 mm long, cut a test specimen with enough of the adjacent material to permit it to be held in the tension testing machine specified in S6.3.

* * * * *

Issued on: January 30, 2003.
Stephen R. Kratzke,
Associate Administrator for Rulemaking.

[FR Doc. 03-2702 Filed 2-6-03; 8:45 am]

BILLING CODE 4910-59-P